DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: West Coast Saltwater Fishing Survey.

OMB Control Number: 0648-xxxx.

Form Number(s): None.

Type of Request: Regular (request for a new information collection)

Number of Respondents: 3,767.

Average Hours Per Response: Saltwater angler survey, 25 minutes; non-saltwater angler survey, 10 minutes; screening survey 3 minutes.

Burden Hours: 408.

Needs and Uses: This request is for a new information collection.

The Northwest Fisheries Science Center and Southwest Fisheries Science Center are undertaking an economics research project to assess the behavior of saltwater recreational anglers in response to catch rates, bag limits, and the timing and length of the season, and how these actions affect the value of saltwater recreational fishing. The West Coast Saltwater Fishing Survey (WCSFS) will provide critical economic data related to saltwater recreational fishing on the Pacific West Coast. More specifically, the WCSFS will collect data needed to (1) assess the socioeconomic characteristics of recreational saltwater fishing participants; (2) assess the economic value of saltwater recreational fishing trips through statistical estimation of models; and (3) assess the change in these values associated with possible changes in management policies related to catch rates, bag limits, season timing and length, time and area closures, and changes in economic or fishery conditions.

All of the protocols that will be used in the final survey will be tested prior to the full survey administration. If the survey needs revision based on this pretest, we will submit the revised instruments as part of a non-substantive change request.

Affected Public: Individuals or households.

Frequency: One time.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: January 13, 2017.
Sarah Brabson,
NOAA PRA Clearance Officer.

[FR Doc. 2017-01286 Filed 1-19-17; 8:45 am]

BILLING CODE 3510-22-P